DEPARTMENT OF HOMELAND SECURITY

U.S. Customs and Border Protection

[1651-0088]

Agency Information Collection Activities: Passenger and Crew Manifest

AGENCY: U.S. Customs and Border Protection (CBP), Department of Homeland Security.

ACTION: 60-Day notice and request for comments; revision of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies. Comments are encouraged and must be submitted (no later than July 14, 2020) to be assured of consideration.

ADDRESSES: Written comments and/or suggestions regarding the item(s) contained in this notice must include the OMB Control Number 1651-0088 in the subject line and the agency name. To avoid duplicate submissions, please use only one of the following methods to submit comments:

(1) Email. Submit comments to: CBP_PRA@cbp.dhs.gov.

(2) Mail. Submit written comments to CBP Paperwork Reduction Act Officer, U.S. Customs and Border Protection, Office of Trade, Regulations and Rulings, Economic Impact Analysis Branch, 90 K Street NE, 10th Floor, Washington, DC 20229-1177.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Passenger and Crew Manifest (Advance Passenger Information System).

OMB Number: 1651-0088.

Form Number: None.

Abstract: The Advance Passenger Information System (APIS) is an automated method in which U.S. Customs and Border Protection (CBP) receives information on passengers and crew onboard inbound rail and bus trips before their arrival in the United States, as well as inbound and outbound international flights before their arrival in, or departure from, the United States. APIS data includes biographical information for passengers arriving in or departing from the United States, allowing the data to be checked against CBP databases.

The information is submitted for both commercial and private aircraft flights, rail carriers and bus carriers. Specific data elements required for each passenger and crew member include: Full name; date of birth; gender; citizenship; document type; passport number; country of issuance and expiration date; and alien registration number where applicable.

APIS is authorized under the Aviation and Transportation Security Act, (Pub. L. 107-71, Stat. 597 (2001)). Under statute, air carriers operating a passenger flight in foreign air transportation to the United States must electronically transmit to CBP a passenger and crew manifest containing specific identifying data elements and any other information that DHS determines is reasonably necessary to ensure aviation safety. The specific passenger and crew identifying information required by statue consists of the following: Full name; date of birth; gender; citizenship; passport number; country of issuance; and U.S. visa number or resident alien card where applicable. See 49 U.S.C. 44909(c). The APIS regulatory requirements are specified in 19 CFR 122.49a, 122.49b, 122.49c, 122.75a, 122.75b, and 122.22. These provisions lists all the required APIS data.

Respondents submit their electronic manifest either through a direct interface with CBP, or using eAPIS which is a web-based system that can be accessed at https://eapis.cbp.dhs.gov/.

Current Actions: This submission is being made to revise this collection of information to include bus and rail carriers into this OMB control number.

Proposed Changes: CBP is currently running a pilot with nine respondents in which Bus carriers are currently submitting passenger manifest data voluntarily to assist CBP in writing future regulations that will mandate the submission of this data in advance of passenger arrival into the United States. CBP would like to revise this information collection to include bus and rail respondents, which would allow CBP to expand the pilot beyond the current nine respondent limit.

The collection of passenger manifest data from bus and rail carriers arriving in the U.S. is authorized by section 433(d) and 431(b) of the Tariff Act of 1930, as amended (19 U.S.C. 1433(d) ad 19 U.S.C. 1431(b)). Bus and rail carriers submit their APIS information to CBP via the Land Pre-Arrival System Application (LPAS), embedded in the ROAM application.

In the ROAM application, the collection of passenger information is primarily done through electronic submission. The bus or rail carrier designee submits passenger information by scanning the Machine Readable Zone (MRZ) of each passengers' passport, which automatically is loaded into the application. Should the MRZ not automatically go into the application, the bus carrier will manually input the passengers' passport information. This is the only point at which information is collected from travelers.

The user registers the bus or rail as the mode of travel and is prompted to complete information on the company. Information includes:

• Mode of Travel (Bus/Rail)

• License Country

• Registration Province

• License Number

• Sender ID

• Carrier Code (APIS code from CBP)

• Bus/Rail Company

Each carrier will be required to create a `Driver Profile' by entering in their documentation using the MRZ or manually. This profile is then saved to be associated with each bus or rail that the driver operates and will have to be selected prior to submitting the trip. The drivers are prompted to information on themselves, including:

• Name

• Date of Birth

• Sex

• Country of Citizenship

• Country of Residence

• Document Type

• Document Number

• Date of Issue

• Date of Expiration

• Country of Issue

This process is then duplicated for passengers boarding the bus or train. Each traveler profile is then saved for the trip but is deleted from the application immediately after the information is submitted to CBP.

Prior to submitting passenger information to CBP, the user must fill in required arrival fields. These fields include:

• Arrival Location in the U.S.

• Estimated Arrival Date

• Estimated Arrival Time

• Arrival Code (Port of Entry)

• Entry State

• Last Country Visited

• Contact Email

Previously, the ROAM application also permitted self-reported submission of information to CBP officers through a face-time feature. This self-reporting feature has been disabled for LPAS and will not be used at any time in conjunction with the Bus APIS pilot or the resulting program that arises from the pilot. The bus carrier, either through the bus driver or another employee, will be the only party submitting responses to the LPAS feature within the ROAM application. The basis for this decision arose out of the necessity to collect traveler information prior to arrival in the land environment as it is done in the air environment. For pre-arrival vetting and targeting to be conducted, officers must be able to collect information on travelers prior to their arrival at the border to promote officer safety and increase security. In air Ports of Entry, officers have access to traveler information 72 hours prior to arrival. However, this standard does not exist in the land environment, as travelers can board a bus just 10 minutes prior to arriving at the border. In the air environment, airline carriers are the users submitting traveler information.

Therefore, in order to closely mirror this successful process, bus and rail carriers will submit traveler data in the land environment. In order to reduce the burden of manual data entry, the LPAS feature includes a technology that reads the MRZ on a passport. As a result, the bus driver can simply scan a passenger's passport in order to populate the required data fields and accurately submit that data to CBP.

Type of Review: Revision.

Affected Public: Businesses, Individuals.

Commercial Airlines

Estimated Number of Respondents: 1,130.

Estimated Number of Total Annual Responses: 1,850,878.

Estimated Time per Response: 10 minutes.

Estimated Total Annual Burden Hours: 307,246.

Commercial Airline Passengers (3rd party)

Estimated Number of Respondents: 184,050,663.

Estimated Number of Total Annual Responses: 184,050,663.

Estimated Time per Response: 10 seconds.

Estimated Total Annual Burden Hours: 496,937.

Private Aircraft Pilots

Estimated Number of Respondents: 460,000.

Estimated Number of Total Annual Responses: 460,000.

Estimated Time per Response: 15 minutes.

Estimated Total Annual Burden Hours: 115,000.

Commercial Passenger Rail Carrier

Estimated Number of Respondents: 2.

Estimated Number of Total Annual Responses: 9,540.

Estimated Time per Response: 10 seconds.

Estimated Total Annual Burden Hours: 26.

Bus Passenger Carrier

Estimated Number of Respondents: 9.

Estimated Number of Total Annual Responses: 309,294.

Estimated Time per Response: 15 minutes.

Estimated Total Annual Burden Hours: 77,324.

Dated: May 12, 2020.
Seth D. Renkema,
Branch Chief, Economic Impact Analysis Branch, U.S. Customs and Border Protection.

[FR Doc. 2020-10455 Filed 5-14-20; 8:45 am]

BILLING CODE P